DEPARTMENT OF LABOR

Occupational Safety and Health Administration

[Docket No. H-052F]

Occupational Exposure to Cotton Dust: Notice of the Availability of a Lookback Review Pursuant to the Regulatory Flexibility Act and Executive Order 12866

AGENCY: Occupational Safety and Health Administration (OSHA), Labor.

ACTION: Notice.

SUMMARY: The Occupational Safety and Health Administration (OSHA) has completed a lookback review of its Cotton Dust Standard, 29 CFR 1910.1043, pursuant to Sec. 610 of the Regulatory Flexibility Act and Sec. 5 of Executive Order 12866. That review, “Regulatory Review of OSHA's Cotton Dust Standard, September 2000,” indicates: that the standard has reduced byssinosis rates from 12% to 1%; that the standard cost one-quarter to one-half of various estimates and increased productivity; that the standard does not impose a significant impact on small business; and that public commenters agree that the standard should remain in effect. Based on this review, OSHA concludes that the Cotton Dust Standard should be continued without change except that the washed cotton partial exemption to the standard should be expanded based on new studies and recommendations from industry, unions and government experts. See the Final Rules section of today's Federal Register.

FOR FURTHER INFORMATION CONTACT: Joanna Dizikes Friedrich, Directorate of Policy Rm. N3641, OSHA, U.S. Department of Labor, 200 Constitution Avenue, NW., Washington, DC 20210, telephone (202) 693-1939. Direct technical inquiries about the Cotton Dust Standard to Gail Brinkerhoff, Rm. N3603, telephone (202) 693-2190, or visit the OSHA Homepage at www.OSHA.dol.gov. Direct press inquiries to Bonnie Friedman, Director of Information and Consumer Affairs, Rm. N-3647, telephone (202) 693-1999.

ADDRESSES: Copies of the entire report may be obtained from the OSHA Publication Office, Rm. N-3101, 200 Constitution Avenue, NW., Washington, DC 20210, tel. (202) 693-1888, Fax (202) 693-2498. The full report, comments, and referenced documents are available for review at the OSHA Docket Office, Docket No. H-052F, Rm. 2625, 200 Constitution Ave., NW. Washington, DC 20210, tel. (202) 693-2119. The main text of the report will become available on the OSHA web page at www.OSHA.dol.gov.

SUPPLEMENTARY INFORMATION: The Occupational Safety and Health Administration (OSHA) issued its final Cotton Dust Standard June 23, 1978 (43 FR 27351) and amended it December 12, 1985 (50 FR 51120). That standard is codified at 29 CFR 1910.1043.

OSHA has completed a “Lookback” review of the Cotton Dust Standard titled, “Regulatory Review of OSHA's Cotton Dust Standard, September 2000.” This Federal Register notice announces the availability of that review and briefly summarizes it.

The purpose of the Cotton Dust Standard is to greatly reduce the significant risk of byssinosis (brown lung disease), a disabling lung disease. Prior to the standard more than 50,000 cotton textile workers suffered from the disease at any one time.

The Cotton Dust Standard sets maximum permissible exposure limits (PELs) for cotton dust which vary by operation. It includes requirements for monitoring, medical surveillance, work practices and other requirements. It includes partial exemptions for the processing of cotton washed according to various protocols which greatly reduce the cotton's biological reactivity. Certain sections of the industry, such as knitting, are partially or completely exempt from the standard because those sections do not present significant risk of byssinosis.

In 1998, the Occupational Safety and Health Administration (OSHA) began a review of its Cotton Dust Standard under Section 610 of the Regulatory Flexibility Act (5 U.S.C. 601, 610) and Section 5 of Executive Order (EO) 12866 on Regulatory Planning and Review.

The purpose of a review under Section 610 of the Regulatory Flexibility Act (RFA):

“(S)hall be to determine whether such rule should be continued without change, or should be rescinded, or amended consistent with the stated objectives of applicable statutes to minimize any significant impact of the rules on a substantial number of small entities.”

“The Agency shall consider the following factors:

(1) The continued need for the rule;

(2) The nature of complaints or comments received concerning the rule from the public;

(3) The complexity of the rule;

(4) The extent to which the rule overlaps, duplicates or conflicts with other Federal rules, and, to the extent feasible, with State and local governmental rules; and

(5) The length of time since the rule has been evaluated or the degree to which technology, economic conditions, or other factors have changed in the area affected by the rule.”

The review requirements of Section 5 of EO 12866 require agencies:

To reduce the regulatory burden on the American people, their families, their communities, their State, local, and tribal governments, and their industries; to determine whether regulations promulgated by the [Agency] have become unjustified or unnecessary as a result of changed circumstances; to confirm that regulations are both compatible with each other and not duplicative or inappropriately burdensome in the aggregate; to ensure that all regulations are consistent with the President's priorities and the principles set forth in this Executive Order, within applicable law; and to otherwise improve the effectiveness of existing regulations.

To carry out these reviews, on June 23, 1998, OSHA asked the public for comments on all issues raised by these provisions (63 FR 34140). Among other things, OSHA requested comments on: the benefits and utility of the rule in its current form; the continued need for the rule; the complexity of the rule; and whether, and to what extent, the rule overlaps, duplicates, or conflicts with other Federal, State, and local government rules. OSHA also asked for comments on new developments in technology, economic conditions, or other factors affecting the ability of covered firms to comply with the Cotton Dust Standard and on alternatives to the rule that would minimize significant impacts on small businesses while achieving the objectives of the Occupational Safety and Health Act.

OSHA accepted written comments from June 23, 1998 through August 31, 1998. OSHA also conducted two public meetings, on July 24 and July 30, 1998, in Atlanta, Georgia, and Washington, DC, respectively. Comments were received from employers, trade associations, the National Institute for Occupational Safety and Health, U.S. Department of Agriculture, the joint industry/government/union Task Force for Byssinosis Prevention, trade unions and textile workers. OSHA also considered the many published studies and reports on relevant issues. All documents, studies and comments received relevant to the review, transcripts of the oral hearings and documents discussed in this report are available at the OSHA Docket Office, Docket No. H-052F, Room N-3625, U.S. Department of Labor, 200 Constitution Avenue, NW, Washington, DC 20210, telephone: (202) 693-2350.

Conclusions: Based on the comments and testimony of participants in this lookback review process and the studies and other evidence submitted to the public docket, OSHA concludes as discussed in depth in “Regulatory Review of OSHA's Cotton Dust Standard, Sept. 2000,” that the Agency's standard should be continued without change (except for an expansion of the washed cotton exemption discussed below). The evidence also demonstrates that the standard does not need to be rescinded or amended to minimize significant impacts on a substantial number of small entities.

OSHA also finds that the Cotton Dust standard is necessary to protect employee health, is compatible with other OSHA standards, is not duplicative or in conflict with other Federal, State, or local government rules, is not inappropriately burdensome, and is consistent with the President's priorities and the principles of EO 12866. Further, no changes have occurred in technological, economic, or other factors that would warrant revision of the standard at this time.

The major impact of the Cotton Dust Standard is on firms in the cotton-using 4 digit SIC sectors of the textile industry. These are firms which open and process raw cotton, spin that cotton into cotton and cotton blend yarn and thread, and turn that yarn and thread into cotton and cotton blend fabrics. (The report also discusses other sectors and operations where the standard has some impact.)

It is estimated that there are approximately 466 cotton using establishments in these textile sectors. It also can be estimated that between 70,000 and 105,000 employees work in these establishments.

It is estimated that the prevalence rate of byssinosis among cotton textile workers was approximately 20% in the early 1970's. The completion of studies confirming these rates and OSHA's announcement of regulatory activities led some firms to lower exposures leading to an estimated prevalence rate of 12% just before OSHA issued the Cotton Dust Standard in 1978.

The provisions of the Cotton Dust Standard, lowering workers' exposure to cotton dust and requiring medical surveillance, transfer to lower exposure areas, work practices, etc., helped reduce the byssinosis prevalence rate to approximately 0.68%. The number of workers with byssinosis has been reduced to approximately 700 from approximately 12,000 in 1978 and 50,000 in 1970 (when the number of exposed workers was higher). The cotton dust standard has been highly successful in protecting the health of cotton textile workers from byssinosis and achieving the stated objective of the OSH Act.

OSHA had estimated that the capital cost of the Cotton Dust Standard would be $550 million in 1977 dollars, which was the low end of varying estimates. The actual cost was $243 million in 1982 dollars or $153 million in 1977 dollars.

The reason for the lower costs was that the standard encouraged industry to invest in more productive equipment to come into compliance. Industry purchased such things as automated opening equipment and air-jet looms to come into compliance rather than utilizing add-on ventilation.

A further result was that the Cotton Dust Standard contributed to increasing industry productivity growth, which was 2.5% per year in the 1972-79 period and increased to 3.5% per year in the 1979-1991 period. It is clear that the technological changes since the standard was issued have been positive for the industry and the standard has encouraged those positive technological developments.

It is also clear that the rule did not have any significant negative economic impact on a substantial number of small businesses. The large majority of firms affected are small businesses as defined by the Small Business Administration (SBA). Sales in the major cotton-using SICs increased from $20 billion in 1982, to $27 billion in 1992 to $38 billion in 1996 to $40 billion in 1998. Sales of small businesses as defined by the SBA in those SICs increased from $34 billion in 1996 to $36.5 billion in 1998. Sales of the smallest firms in that period increased from $6 billion to $10 billion.

Further evidence of the health of the small business sector is the entry of new small businesses into the cotton using SICs. The number of establishments with 1-19 employees increased 21% from 1977 to 1992, and the number of firms with 1-19 employees increased 55% from 1990 to 1996. (Different statistical series were available for the different periods.)

There is a continuing need for the Cotton Dust Standard. Without the exposure limits, medical surveillance, and other requirements of the standard, byssinosis prevalence rates would increase. All commenters supported the retention of the Cotton Dust Standard, and there were no criticisms that it was too complex. The stakeholders understand the standard, and its more technical requirements are necessary for effective medical surveillance and accurate monitoring.

The Cotton Dust Standard does not conflict with other Federal or state rules. Most of the cotton textile industry is located in states with their own state OSHA's. Those states have adopted cotton dust standards which are virtually identical to the Federal standard (they must adopt standards that are at least as effective as the Federal standard), and those states enforce their state standards.

Some commenters recommended minor technical changes to the Cotton Dust Standard. Those are discussed and OSHA conclusions stated in chapter VI. 5 of the full review. OSHA concluded that some of the suggestions, such as technical changes to the medical protocol, were for provisions that are working effectively and it was not worth regulatory resources to propose minor changes. Some of the other recommended minor changes, such as on monitoring frequency, were quite controversial with many opposing such changes. Consequently OSHA concluded it was not appropriate to propose such changes absent meaningful new evidence which was not presented.

The “Reg Flex” and Executive Order reviews did bring convincingly to OSHA's attention one change to the Cotton Dust Standard that appears strongly justified. Consequently OSHA is issuing that change by direct final rule in today's Federal Register.

Washing cotton according to certain protocols reduces the bioactivity of that cotton and its ability to cause byssinosis. Not all washing processes reduce the bioactivity, and cotton washed by certain processes can not be spun and woven into quality textiles. The 1985 amendments to the Cotton Dust Standard give a partial exemption for processing cotton washed according to certain protocols based on studies showing such cotton has greatly reduced bioactivity.

The industry/government/union Task Force for Byssinosis Prevention sponsors research to develop washing techniques which reduce bioactivity and create processable cotton. That Task Force has recommended that OSHA add an additional washing process, batch kier processing, to those that receive partial exemption, because batch kier processing, according to a specified protocol, greatly reduces bioactivity. That recommendation is supported by studies and recommendations of the National Institute for Occupational Safety and Health, the U.S. Department of Agriculture, industry groups and unions. Consequently, OSHA is taking prompt action to implement that recommendation and increase the flexibility available to the cotton textile industry while protecting textile worker health.

Signed at Washington, DC, this 18th day of October, 2000.
Charles N. Jeffress,
Assistant Secretary of Labor.

[FR Doc. 00-31188 Filed 12-6-00; 8:45 am]

BILLING CODE 4510-26-P